DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, email paperwork@hrsa.gov or call the HRSA Reports Clearance Office on (301) 443-1129.

The following request has been submitted to the Office of Management and Budget for review under the Paperwork Reduction Act of 1995:

Proposed Project: Maternal and Child Health Services Title V Block Grant Program Guidance and Forms for the Title V Application/Annual Report (OMB No. 0915-0172)—[Revision]

The Health Resources and Services Administration (HRSA) proposes to revise the Maternal and Child Health Services Title V Block Grant Program—Guidance and Forms for the Application/Annual Report. The guidance is used annually by the 50 States and 9 jurisdictions during both the creation of applications for Block Grants (under Title V of the Social Security Act) and in the preparation of the required annual report. The proposed revisions follow and build on extensive consultation received from a workgroup convened to provide suggestions to improve the guidance and forms.

The changes in this edition of the Maternal and Child Health Services Title V Block Grant Program Guidance and Forms for the Title V Application/Annual Report include the following proposed revisions: (1) The requirements for reporting on the health status indicators and health systems capacity indicators were rewritten to reduce the reporting burden to the States; (2) the instructions for completing Form 7, “Number of Individuals Served,” have been clarified to assist States in more accurately estimating the number of individuals who receive Title V services; and (3) the detail sheets for the performance measures, outcome measures, health systems capacity indicators and health status indicators have been updated with corresponding Healthy People 2020 Objectives. In addition, efficiencies through use of the electronic application are identified for States to reduce their efforts in completing the application.

The annual estimate of burden is as follows:

Type of document | Number of respondents | Responses per respondent | Total responses | Hours per response | Total burden hours
Application and Report without Needs Assessment (2012, 2013 & 2014) | 59 | 1 | 59 | 246 | 14,514
Total | 59 |  | 59 |  | 14,514

Written comments and recommendations concerning the proposed information collection should be sent within 30 days of this notice to the desk officer for HRSA, either by email to OIRA_submission@omb.eop.gov or by fax to (202) 395-6974. Please direct all correspondence to the “attention of the desk officer for HRSA.”

Dated: October 24, 2011.
Reva Harris,
Acting Director, Division of Policy and Information Coordination.

[FR Doc. 2011-28033 Filed 10-28-11; 8:45 am]

BILLING CODE 4165-15-P